DEPARTMENT OF THE INTERIOR

National Park Service

Notice of Inventory Completion for Native American Human Remains and Associated Funerary Objects in the Possession of the Milwaukee Public Museum, Milwaukee, WI

AGENCY: National Park Service, Interior.

ACTION: Notice.

Notice is hereby given in accordance with provisions of the Native American Graves Protection and Repatriation Act (NAGPRA), 43 CFR 10.9, of the completion of an inventory of human remains and associated funerary objects in the possession of the Milwaukee Public Museum, Milwaukee, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology, in consultation with representatives of Koniag, Inc., and the Alutiiq Museum, Kodiak, AK. The Alutiiq Museum is authorized by Alaska Native villages on Kodiak Island, AK, to act on behalf of these communities in matters of cultural resources preservation.

At an unknown time, human remains representing one individual were removed from an unknown locality on Kodiak Island, AK, by Ken McQuin. Mr. McQuin sold the remains to the Milwaukee Public Museum in 1967. No known individual was identified. No associated funerary objects are present.

Based on cranial morphology and dental traits, these human remains are identified as Native American. Consultation evidence provided by representatives of Koniag, Inc., and by the Alutiiq Museum indicate that the location of the burial is consistent with the traditional pre- and post-European contact occupational territory of the peoples represented by the Koniag, Inc.

Based on the above-mentioned information, officials of the Milwaukee Public Museum have determined that, pursuant to 43 CFR 10.2 (d)(1), the human remains listed above represent the physical remains of one individual of Native American ancestry. Officials of the Milwaukee Public Museum also have determined that, pursuant to 43 CFR 10.2 (e), there is a relationship of shared group identity that can be reasonably traced between these Native American human remains and the peoples represented by the Koniag, Inc.

This notice has been sent to officials of the Kodiak Area Native Association, the Native Village of Port Lions, the Native Village of Karluk, the Native Village of Akhiok, the Shoonaq' Tribe of Kodiak, the Native Village of Larsen Bay, the Village of Old Harbor, the Native Village of Ouzinkie, Koniag, Inc., the Alutiiq Museum, and the Council of Katmai Descendants. Representatives of any other Indian tribe that believes itself to be culturally affiliated with these human remains should contact Dr. Alex Barker, Anthropology Section Head, Milwaukee Public Museum, 800 West Wells Street, Milwaukee, WI 53233, telephone (414) 278-2786, before April 19, 2001. Repatriation of the human remains to Koniag, Inc., and to the Alutiiq Museum may begin after that date if no additional claimants come forward.

Dated: February 23, 2001.
John Robbins,
Assistant Director, Cultural Resources Stewardship and Partnerships.

[FR Doc. 01-6845 Filed 3-19-01; 8:45 am]

BILLING CODE 4310-70-F